SOCIAL SECURITY ADMINISTRATION

[Docket No. SSA-2025-0010]

Privacy Act of 1974; Matching Program

AGENCY: Social Security Administration (SSA).

ACTION: Notice of a new matching program.

SUMMARY: In accordance with the provisions of the Privacy Act, as amended, this notice announces a new matching program with the Railroad Retirement Board (RRB). Under this matching program, RRB, as the source agency, will disclose RRB annuity payment data to SSA, the recipient agency. SSA will use the information to verify Supplemental Security Income (SSI) and Special Veterans Benefits (SVB) eligibility and benefit payment amounts. SSA will also record the railroad annuity amounts RRB paid to SSI and SVB recipients in the Supplemental Security Income Record (SSR).

DATES: The deadline to submit comments on the proposed matching program is no later than December 22, 2025.

The matching program will be applicable on March 2, 2026, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2025-0010 so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at https://www.regulations.gov. Use the Search function to find docket number SSA-2025-0010 and then submit your comments. The system will issue you a tracking number to confirm your submission. You will not be able to view your comment immediately because we must post each submission manually. It may take up to a week for your comments to be viewable.

2. Fax: Fax comments to 833-410-1631.

3. Mail: Matthew Ramsey, Head of Privacy & Disclosure Policy, Law & Policy, Social Security Administration, G-401 WHR, 6401 Security Boulevard, Baltimore, MD 21235-6401, or emailing Matthew.Ramsey@ssa.gov. Comments are also available for public viewing on the Federal eRulemaking portal at https://www.regulations.gov or in person, during regular business hours, by arranging with the contact person identified below.

FOR FURTHER INFORMATION CONTACT: Interested parties may submit general questions about the matching program to Andrea Huseth, Division Director, Electronic Interchange, Liaison & Breach Division, Privacy & Disclosure Policy, Law & Policy, Social Security Administration, G-401 WHR, 6401 Security Boulevard, Baltimore, MD 21235-6401, at telephone: (410) 608-9675, or send an email to Andrea.Huseth@ssa.gov.

SUPPLEMENTARY INFORMATION: None.

Matthew D. Ramsey,
Head of Privacy & Disclosure Policy, Law & Policy.

Participating Agencies: SSA and RRB.

Authority for Conducting the Matching Program: This agreement is executed under the Privacy Act of 1974, 5 U.S.C. 552a, as amended by the Computer Matching and Privacy Protection Act (CMPPA) of 1988, Public Law (Pub. L.) 100-503, 102 Stat. 2507 (1988), as amended, and the Computer Matching and Privacy Protection Amendments of 1990, and the regulations and guidance promulgated thereunder.

The CMPPA applies when computerized comparisons of Privacy Act-protected records contained within a Federal agency's databases and the records of another organization are made in order to determine an individual's eligibility to receive a Federal benefit. The CMPPA requires the parties participating in a matching program to execute a written agreement specifying the terms and conditions under which the matching program will be conducted.

Legal authority for the disclosure under this agreement for the SSI portion are sections 1631(e)(1)(A) and (B) and 1631(f) of the Social Security Act (Act) (42 U.S.C. 1383(e)(1)(A) and (B) and 1383(f)). The legal authority for the disclosure under this agreement for the SVB portion is section 806(b) of the Act (42 U.S.C. 1006(b)).

Purpose(s): This agreement sets out the terms, safeguards, and procedures under which RRB, as the source agency, will disclose RRB annuity payment data to SSA, the recipient agency. SSA will use the information to verify SSI and SVB eligibility and benefit payment amounts. SSA will also record the railroad annuity amounts RRB paid to SSI and SVB recipients in the SSR.

Categories of Individuals: The individuals whose information is involved in this matching program are applicants for and recipients of SSI payments and SVB benefits.

Categories of Records: The monthly electronic data file provided by RRB will contain approximately 560,000 records. The file will adhere to the characteristics and format shown in attachment B. The SSR has about 10.4 million records. SSA will match the Social Security number, name, date of birth, and RRB claim number on the RRB file and the SSR. SSA and RRB will conduct this match monthly.

System(s) of Records: RRB will provide SSA with an electronic data file containing annuity payment data from RRB's system of records, RRB-22 Railroad Retirement, Survivor, and Pensioner Benefits System, last published on 80 FR 28018 (May 15, 2015). SSA will match RRB's data with data maintained in the SSR, Supplemental Security Income Record and Special Veterans Benefits, 60-0103, last fully published at 71 FR 1830 (January 11, 2006) and updated at 72 FR 69723 (December 10, 2007), 83 FR 31250-31251 (July 3, 2018), 83 FR 54969 (November 1, 2018), 89 FR 825 (January 5, 2024), and 89 FR 14554 (February 27, 2024). SVB data also resides in the SSR.

[FR Doc. 2025-20489 Filed 11-20-25; 8:45 am]

BILLING CODE 4191-02-P